DEPARTMENT OF JUSTICE

[OMB Number 1121-NEW]

Agency Information Collection Activities; Proposed eCollection eComments Requested; New Collection: State and Local Justice Agencies Serving Tribal Lands (SLJASTL): Survey of Prosecutor Offices in PL-280 States Serving Tribal Lands (SSLPOSTL)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until December 12, 2017.

FOR FURTHER INFORMATION CONTACT: If you have additional comments especially on the estimated public burden or associated response time, suggestions, or need a copy of the proposed information collection instrument with instructions or additional information, please contact Suzanne Strong, Statistician, Prosecution and Judicial Statistics, Bureau of Justice Statistics, 810 Seventh Street NW., Washington, DC 20531 (email: Suzanne.M.Strong@usdoj.gov; telephone: 202-616-3666).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: State and Local Justice Agencies Serving Tribal Lands (SLJASTL): Survey of State and Local Prosecutor Offices in PL-280 States Serving Tribal Lands (SSLPOSTL).

(3) The agency form number, if any, and the applicable component of the Department sponsoring the collection: No agency form number at this time. The applicable component within the Department of Justice is the Bureau of Justice Statistics, in the Office of Justice Programs.

(4) Affected public who will be asked or required to respond, as well as a brief abstract: Respondents will be state and local prosecutor offices located in the sixteen Public Law 280 (PL-280) states. The respondent universe will be finalized after an initial telephone contact to determine which offices are most likely to provide services to tribal lands. Abstract: Among other responsibilities, the Bureau of Justice Statistics is charged with collecting data regarding crimes occurring on tribal lands. The SLJASTL is the first effort by BJS to collect data from state and local justice agencies responsible for policing and prosecuting crimes that occur on tribal lands in PL-280 states. State and local prosecutors have jurisdiction over specific crimes and offenders when the crime occurs on tribal lands. There are no existing data collections that describe state and local prosecutors' role in prosecuting crime occurring on tribal lands.

This collection involves a two-stage process. In the first phase, BJS will conduct a pilot test to determine whether prosecutor offices located closer to tribal lands are responsible for providing services, or if all prosecutor offices within the state share equal responsibility for prosecuting crime occurring on tribal lands. There are 267 counties that include tribal lands within their jurisdiction. BJS will not need to sample these offices as there is one prosecutor office per county and the sample size would likely be a full census of all 267 offices. There are 515 counties with no tribal lands in their jurisdiction. BJS will sample 50 prosecutor offices from the 515 counties located in the counties with no tribal lands to determine whether these offices provide any services to tribal lands. BJS will also cognitively test the revised survey with 10 offices with tribal lands within their jurisdiction.

In the second phase, BJS will refine the sampling frame and conduct the full survey. The SSLPOSTL will collect information that will help fill the gaps in our understanding of the nature of crime on tribal lands. There are two survey instruments: One for Alaska and one for the remaining fifteen PL-280 states. The data collection instruments are designed to capture administrative, operational and caseload data from prosecutor offices that investigate and prosecute crimes that occur on tribal lands in PL-280 states. The information collected includes the staffing of prosecutor offices; types of agreements prosecutor offices have with tribal governments; whether prosecutors try cases occurring on tribal lands in tribal or state courts; non-prosecutorial services provided on tribal lands (such as victim services and community outreach services); information sharing with tribal governments; training received by prosecutors about tribal lands; and the number and types of referrals to and cases prosecuted by state prosecutors. The survey is designed to describe the role that state and local prosecutor offices play in charging and prosecuting crimes that occur on tribal lands in PL-280 states.

(5) An estimate of the total number of respondents and the amount of time estimated for an average respondent to respond: BJS expects to cognitively test the revised survey with about 10 offices with an estimated burden of 60 minutes per respondent. BJS plans to contact about 50 prosecutor offices by telephone to ask whether they provide services to tribal lands with an expected respondent burden of 10 minutes per respondent. After the pilot test, BJS will determine the total number of offices that will be contacted in the full survey effort. For the full survey, BJS estimates a maximum of 315 offices and a respondent burden of about 30 minutes per office, including follow-up time.

(6) An estimate of the total public burden (in hours) associated with the collection: The total respondent burden for the cognitive test is approximately 10 hours. The total respondent burden for the telephone pilot test is approximately 8 burden hours. The maximum expected respondent burden for the full survey effort is approximately 158 burden hours. The total burden for this effort is approximately 176 burden hours.

If additional information is required contact: Melody Braswell, Department Clearance Officer, United States Department of Justice, Justice Management Division, Policy and Planning Staff, Two Constitution Square, 145 N Street NE., 3E.405A, Washington, DC 20530.

Dated: October 10, 2017.
Melody Braswell,
Department Clearance Officer for PRA, U.S. Department of Justice.

[FR Doc. 2017-22167 Filed 10-12-17; 8:45 am]

BILLING CODE 4410-18-P